DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of additional persons whose property and interests in property have been blocked pursuant to the Foreign Narcotics Kingpin Designation Act (21 U.S.C. 1901-1908, 8 U.S.C. 1182). In addition, OFAC is publishing a change to the listing of one individual previously designated pursuant to the Foreign Narcotics Kingpin Designation Act.

DATES: The designation by the Secretary of the Treasury of the twelve individuals and six entities identified in this notice pursuant to section 805(b) of the Kingpin Act is effective on May 17, 2007. In addition, the change to the listing of one individual previously designated pursuant to section 804(b) of the Kingpin Act is effective on May 17, 2007.

FOR FURTHER INFORMATION CONTACT: Assistant Director, Compliance Outreach & Implementation Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Foreign Narcotics Kingpin Designation Act (“Kingpin Act”) became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 17, 2007, OFAC designated six additional entities and twelve additional individuals whose property and interests in property are blocked pursuant to section 805(b) of the Foreign Narcotics Kingpin Designation Act.

The list of additional designees follows:

Entities:

1. NUEVA INDUSTRIA DE GANADEROS DE CULIACAN S.A. DE C.V. (d.b.a. LECHERIA SANTA MONICA; a.k.a. DORA PASTEURIZA DE LECHE SANTA MONICA; f.k.a. INDUSTRIAS DE GANADEROS S.A. DE C.V.; a.k.a. SANTA MONICA DAIRY); Calle/Boulevard Doctor Mora 1230, Colonia Las Quintas, Culiacan, Sinaloa 80060, Mexico; Carretera los Mochis Topolobampo, KM. 5.2, Los Mochis, Sinaloa, Mexico; Avenida Francisco Villa Norte 135, Colonia Niños Heroes, Salvador Alvarado, Sinaloa 81400, Mexico; Carretera La Cruz KM 15 S/N, Colonia Arroyitos, La Cruz, Sinaloa 82700, Mexico; Chamizal S/N, La Cruz, Sinaloa 82700, Mexico; Carretera Internacional al Norte KM 1.5, # 1207, Colonia Ejido Venadillo, Mazatlan, Sinaloa 82129, Mexico; Plaza Azul S/N, Colonia Las Brisas, Tecuala, Nayarit, Mexico; Calle Prolongacion Morelos y Matamoros S/N, Colonia Benito Juarez, Escuinapa, Sinaloa 82400, Mexico; Matamoros 5, Escuinapa, Sinaloa 82478, Mexico; Carretera Internacional 1845, Bodega 8 y 10, Colonia Zona Industrial 2, Cuidad Obregon, Sonora 85065, Mexico; Calle Sauces 384, Colonia Del Bosque, Guasave, Sinaloa 81020, Mexico; Calle Federalismo 2000, Colonia Recursos Hidraulicos, Culiacan, Sinaloa 80060, Mexico; Carretera Augstin Olachea Local 30, Colonia Pericues, La Paz, Baja California Sur 23090, Mexico; Avenida Vallarta 2141, Colonia Centro, Culiacan, Sinaloa 80060, Mexico; Carretera A Navolato, Colonia Bachigualato, Culiacan, Sinaloa 80060, Mexico; Calle Tomate 10 Bodega 34Y5, Colonia Mercado Abastos, Culiacan, Sinaloa 83170, Mexico; Carretera A Topolobampo 5, Colonia Niños Heroes, Ahome, Sinaloa 81290, Mexico; Avenida Xicotencalth # 1795, Colonia Las Quintas, Culiacan, Sinaloa 80060, Mexico; Calle Central Local A10, Colonia Mercado Abastos, Cajeme, Sonora 85000, Mexico; Calle Jose Diego Abad 2923, Colonia Bachigualato, Culiacan, Sinaloa 80140, Mexico; R.F.C. # NIG-8802029-Y7 (Mexico); (ENTITY) [SDNTK].

2. JAMARO CONSTRUCTORES S.A. DE C.V., Culiacan, Sinaloa, Mexico; (ENTITY) [SDNTK]

3. ESTABLO PUERTO RICO S.A. DE C.V. (a.k.a. ESTABLO LECHERO PUERTO RICO); Carretera El Salado, Quila KM 4, Culiacan, Sinaloa, Mexico; Calle Indio De Guelatao Interior 20230, Colonia Miguel Hidalgo, Culiacan, Sinaloa, Mexico; Avenida Manuel Vallarta 2141, Colonia Centro, Culiacan, Sinaloa 80129, Mexico; R.F.C. # EPR-000322-UM9 (Mexico); (ENTITY) [SDNTK]

4. ESTANCIA INFANTIL NIÑO FELIZ S.C., Avenida Manuel Vallarta 2141, Colonia Centro, Culiacan, Sinaloa 80129, Mexico; (ENTITY) [SDNTK]

5. MULTISERVICIOS JEVIZ S.A. DE C.V. (a.k.a. JEVIZ); Carretera a El Dorado # 2501, Colonia Campo El Diez, Culiacan, Sinaloa 80155, Mexico; (ENTITY) [SDNTK]

6. ROSARIO NIEBLA CARDOZA A. EN P. (d.b.a. GASOLINERA ROSARIO); Avenida Manuel Vallarta 2141, Colonia Centro, Culiacan, Sinaloa 80129, Mexico; R.F.C. # NICR-461006-T36 (Mexico); (ENTITY) [SDNTK]

Individuals:

1. NIEBLA CARDOZA, Rosario, (a.k.a. NIEBLA CARDOSA, Rosario); c/o NUEVA INDUSTRIA DE GANADEROS DE CULIACAN S.A. DE C.V., Culiacan, Sinaloa, Mexico; c/o JAMARO CONSTRUCTORES S.A. DE C.V., Culiacan, Sinaloa, Mexico; c/o ESTABLO PUERTO RICO S.A. DE C.V., Culiacan, Sinaloa, Mexico; c/o ROSARIO NIEBLA CARDOZA A. EN P., Culiacan, Sinaloa, Mexico; Calle Ciudades de Hermanas # 277, Colonia Guadalupe, Culiacan, Sinaloa, Mexico; La Calle Jesus Clark Flores # 48, Octava Seccion, Fraccionamiento Chapultepec, Tijuana, Baja California, Mexico; Avenida Paseo Lomas De Mazatlan 6, Lomas De Mazatlan, Mazatlan, Sinaloa 82110, Mexico; Calle Ciudad Victoria 1168, Las Quintas, Culiacan, Sinaloa 80060, Mexico; S Madre Occidental 1323, Culiacan, Sinaloa 80178, Mexico; Avenida Manuel Vallarta 2141, Colonia Centro, Culiacan, Sinaloa 80129, Mexico; Calle Ciudad de Hermosillo # 1168, Fraccionamiento Las Quintas, Culiacan, Sinaloa 80060, Mexico; DOB 06 Oct 1946; POB Culiacan, Sinaloa, Mexico; Citizen Mexico; Nationality Mexico; C.U.R.P. NICR461006MSLBRS09 (Mexico); R.F.C. # NICR-461006-T36 (Mexico); (INDIVIDUAL) [SDNTK].

2. ZAMBADA NIEBLA, Maria Teresa, c/o NUEVA INDUSTRIA DE GANADEROS DE CULIACAN S.A. DE C.V., Culiacan, Sinaloa, Mexico; c/o JAMARO CONSTRUCTORES S.A. DE C.V., Culiacan, Sinaloa, Mexico; c/o ESTABLO PUERTO RICO S.A. DE C.V., Culiacan, Sinaloa, Mexico; c/o ESTANCIA INFANTIL NIO FELIZ S.C., Culiacan, Sinaloa, Mexico; Calle Ciudad de Hermosillo # 1168, Fraccionamiento Las Quintas, Culiacan, Sinaloa, Mexico; Calle Rio Quelite 210, Colonia Guadalupe, Culiacan, Sinaloa 80220, Mexico; Avenida Universidad No. 1900, Colonia Copilco, Coyoacan, Distrito Federal 04350, Mexico; Calle Cerro de la Campana 649, Colonia Colinas de San Miguel, Culiacan, Sinaloa 80060, Mexico; DOB 17 Jun 1969; POB Culiacan, Sinaloa, Mexico; Alt. POB Sonora; Citizen Mexico; Nationality Mexico; C.U.R.P. ZANT690617MSLMBR01 (Mexico); R.F.C. # ZANT-690617-B73 (Mexico); Passport 97040021870 (Mexico); (INDIVIDUAL) [SDNTK].

3. ZAMBADA NIEBLA, Midiam Patricia, (a.k.a. ZAMBADA NIEBLA, Midian Patricia; a.k.a. ZAMBADA NIEBLA, Miriam; a.k.a. LOPEZ LANDEY, Midian Patricia); c/o NUEVA INDUSTRIA DE GANADEROS DE CULIACAN S.A. DE C.V., Culiacan, Sinaloa, Mexico; c/o JAMARO CONSTRUCTORES S.A. DE C.V., Culiacan, Sinaloa, Mexico; c/o ESTABLO PUERTO RICO S.A. DE C.V., Culiacan, Sinaloa, Mexico; Calle Gabino Vazquez # 1206, Colonia Los Pinos, Culiacan, Sinaloa, Mexico; Calle Ciudad de Hermosillo # 1168, Fraccionamiento Las Quintas, Culiacan, Sinaloa, Mexico; Calle Lago Cuitzeo 1394, Colonia Las Quintas, Culiacan, Sinaloa 80060, Mexico; DOB 04 Mar 1971; POB Culiacan, Sinaloa, Mexico; Citizen Mexico; Nationality Mexico; C.U.R.P. ZANM710304MSLMBD14 (Mexico); C.U.R.P. ZANM710304MSLMBD06 (Mexico); R.F.C. # ZANM-710304-RN2 (Mexico); Passport 97040022206 (Mexico); (INDIVIDUAL) [SDNTK],

4. ZAMBADA NIEBLA, Monica del Rosario, (a.k.a. ZAMBADA NIEBLA, Monica del Rocio); c/o NUEVA INDUSTRIA DE GANADEROS DE CULIACAN S.A. DE C.V., Culiacan, Sinaloa, Mexico; c/o JAMARO CONSTRUCTORES S.A. DE C.V., Culiacan, Sinaloa, Mexico; c/o ESTABLO PUERTO RICO S.A. DE C.V., Culiacan, Sinaloa, Mexico; Calle Ciudad de Hermosillo # 1168, Fraccionamiento Las Quintas, Culiacan, Sinaloa, Mexico; Calle Ciudad de Puebla 1254, Colonia Las Quintas, Culiacan, Sinaloa, Mexico; DOB 02 Mar 1980; Alt. DOB 02 Apr 1980; POB Culiacan, Sinaloa, Mexico; Citizen Mexico; Nationality Mexico; C.U.R.P. ZANM800402MSLMBN02 (Mexico); R.F.C. # ZANM-800402 (Mexico); Passport 040037016 (Mexico); Alt. Passport 95040018272 (Mexico); (INDIVIDUAL) [SDNTK],

5. ZAMBADA NIEBLA, Modesta, c/o NUEVA INDUSTRIA DE GANADEROS DE CULIACAN S.A. DE C.V., Culiacan, Sinaloa, Mexico; c/o JAMARO CONSTRUCTORES S.A. DE C.V., Culiacan, Sinaloa, Mexico; c/o ESTABLO PUERTO RICO S.A. DE C.V., Culiacan, Sinaloa, Mexico; Calle Ciudad de Hermosillo # 1168, Fraccionamiento Las Quintas, Culiacan, Sinaloa 80060, Mexico; DOB 22 Nov 1982; POB Culiacan, Sinaloa, Mexico; Citizen Mexico; Nationality Mexico; R.F.C. # ZANM-821122-H87 (Mexico); C.U.R.P. ZANM821122MSLMBD07 (Mexico); Passport 95040018273 (Mexico); (INDIVIDUAL) [SDNTK].

6. PEREGRINA TOBOADA, Jose Antonio, (a.k.a. PEREGRINA TOBOADO, Jose Antonio); c/o NUEVA INDUSTRIA DE GANADEROS DE CULIACAN S.A. DE C.V., Culiacan, Sinaloa, Mexico; c/o JAMARO CONSTRUCTORES S.A. DE C.V., Culiacan, Sinaloa, Mexico; Calle Pirul # 439, Privada Balcones de San Miguel, Culiacan, Sinaloa, Mexico; DOB 05 Aug 1958; POB Culiacan, Sinaloa, Mexico; Citizen Mexico; Nationality Mexico; C.U.R.P. PETA580805HSLRBN09 (Mexico); (INDIVIDUAL) [SDNTK].

7. BUENO GARCIA, Santos, c/o NUEVA INDUSTRIA DE GANADEROS DE CULIACAN S.A. DE C.V., Culiacan, Sinaloa, Mexico; c/o ESTABLO PUERTO RICO S.A. DE C.V., Culiacan, Sinaloa, Mexico; Calle Granate 816, Culiacan, Sinaloa 80015, Mexico; Calle Rio Fuerte 581, Culiacan, Sinaloa 80220, Mexico; DOB 27 Mar 1964; POB Sinaloa, Mexico; Citizen Mexico; Nationality Mexico; C.U.R.P. BUGS640327MSLNRN01 (Mexico); Passport 040035868 (Mexico); (INDIVIDUAL) [SDNTK].

8. LOPEZ DIAZ, Jesus Alfonso, c/o ESTABLO PUERTO RICO S.A. DE C.V., Culiacan, Sinaloa, Mexico; Avenida Const. Pedro L Zavala 1957, Colonia Libertad, Culiacan, Sinaloa 80180, Mexico; DOB 30 Sep 1962; POB Sinaloa, Mexico; Citizen Mexico; Nationality Mexico; C.U.R.P. LODJ620930HSLPZS09 (Mexico); R.F.C. # LODJ-620930 (Mexico); (INDIVIDUAL) [SDNTK].

9. ARAUJO LAVEAGA, Carmen Amelia, c/o ESTANCIA INFANTIL NIO FELIZ S.C., Culiacan, Sinaloa, Mexico; DOB 29 Jan 1967; POB Sinaloa, Mexico; C.U.R.P. AALC670129MSLRVR00 (Mexico); (INDIVIDUAL) [SDNTK].

10. TORRES FELIX, Javier, (a.k.a. FELIX TORRES, Javier; a.k.a. TAMAYO TORRES, Horacio; a.k.a. “El JT”; a.k.a. “Compadre”); Calle Paseo La Cuesta # 1550, Apt 6, Colonia Lomas De Guadalupe, Culiacan Rosales, Sinaloa, Mexico; DOB 19 Oct 1960; POB Mexico; Citizen Mexico; Nationality Mexico; (INDIVIDUAL) [SDNTK].

11. ZAMBADA NIEBLA, Vicente, (a.k.a. ZAMBADA NIEBLA, Jesus Vicente; a.k.a. ZAMBADA NIEBLA, Vincente; a.k.a. SOTELO GUZMAN, Vicente; a.k.a. “El Mayito”); c/o NUEVA INDUSTRIA DE GANADEROS DE CULIACAN S.A. DE C.V., Culiacan, Sinaloa, Mexico; c/o ESTABLO PUERTO RICO S.A. DE C.V., Culiacan, Sinaloa, Mexico; 4852 Palma Cocotera, Colonia Las Palmas, Culiacan, Sinaloa, Mexico; Calle Ciudad de Hermosillo # 1168, Fraccionamiento Las Quintas, Culiacan, Sinaloa 80060, Mexico; DOB 24 Mar 1975; POB Sinaloa, Mexico; Citizen Mexico; Nationality Mexico; R.F.C. # ZANV-750324-NY5 (Mexico); Passport 97040021871 (Mexico); (INDIVIDUAL) [SDNTK].

12. BORBOA ZAZUETA, Zynthia (a.k.a. BORBOA ZAZUETA, Cinthia; a.k.a. BORBOA DE ZAMBADA, Zynthya); c/o MULTISERVICIOS JEVIZ S.A. DE C.V., Culiacan, Sinaloa, Mexico; Calle Miguel Hidalgo PTE 348, Centro, Culiacan, Sinaloa, Mexico; Manuel Bonilla 1166, Guadalupe, Culiacan, Sinaloa, Mexico; Lago Maracaibo 3121, Lago Azul y Ave Lago Azul, Lomas De Boulevard, Culiacan, Sinaloa, Mexico; DOB 30 Jan 1975; POB Sinaloa, Mexico; C.U.R.P. BOZC750130MSLRZN09 (Mexico); R.F.C. # BOZZ-750130-LK4 (Mexico); Passport 04040046165 (Mexico); (INDIVIDUAL) [SDNTK].

In addition, OFAC has made a change to the following listing of one individual previously designated pursuant to the Kingpin Act:

1. ZAMBADA GARCIA, Ismael (a.k.a. GARCIA HERNANDEZ, Javier; a.k.a. HIGUERA RENTERIA, Ismael; a.k.a. LOAIZA AVENDANO, Jesus; a.k.a. ZAMBADA GARCIA, Ismael Mario; a.k.a. ZAMBADA, El Mayo); DOB 1 January 1948; POB Sinaloa, Mexico (individual) [SDNTK].

The listings now appear as follows:

1. ZAMBADA GARCIA, Ismael (a.k.a. GARCIA HERNANDEZ, Javier; a.k.a. HIGUERA RENTERIA, Ismael; a.k.a. LOAIZA AVENDANO, Jesus; a.k.a. ZAMBADA GARCIA, Ismael Mario; a.k.a. LOPEZ LANDEROS, Jeronimo; “El Mayo Zambada”); Calle Presa Humaya # 104, Fraccionamiento Las Quintas, Culiacan, Sinaloa, Mexico; PTE 4 49 2212, Cuchilla Del Tesoro, Delegacion Gustavo A Madero, Distrito Federal, Mexico; Calle Juan Jose Rios, Culiacan, Sinaloa, Mexico; Bahia de San Ignacio #1921, Colonia Nuevo Culiacan, Culiacan, Sinaloa, Mexico; DOB 1 Jan 1948; Alt. DOB 6 Dec 1952; Alt. DOB 3 Sep 1951; POB Sinaloa, Mexico; Alt. POB Costa Rica, Sinaloa, Mexico; Alt. POB El Salado, Sinaloa, Mexico; Alt. POB Guadalajara, Jalisco, Mexico; R.F.C. # ZAGI-500130 (Mexico); Alt. R.F.C. # GAHJ-521206 (Mexico); Alt. R.F.C. # LOLJ510903 (Mexico); Driver's License No. N36064231 (Distrito Federal, Mexico); (INDIVIDUAL) [SDNTK]/

Dated: May 17, 2007.
Adam J. Szubin,
Director, Office of Foreign Assets Control.

[FR Doc. E7-11187 Filed 6-7-07; 8:45 am]

BILLING CODE 4811-42-P